DEPARTMENT OF TRANSPORTATION

Pipeline and Hazardous Materials Safety Administration

[Docket: PHMSA-1998-4957]

Request for Public Comments and Office of Management and Budget Approval of an Existing Information Collection (2137-0618)

AGENCY: Pipeline and Hazardous Materials Safety Administration (PHMSA), U.S. Department of Transportation (DOT).

ACTION: Notice and request for comments.

SUMMARY: In compliance with the Paperwork Reduction Act of 1995 (PRA), this notice requests public participation in the Office of Management and Budget (OMB) approval process for the renewal and extension of an information collection: “Pipeline Safety: Periodic Underwater Inspections.” PHMSA invites the public to submit comments over the next 60 days on whether the existing information collection is necessary for the proper performance of the functions of DOT.

DATES: Submit comments on or before November 13, 2007.

ADDRESSES: Reference Docket PHMSA-1998-4957 and submit comments in the following ways:

• Electronic Submissions: Through September 27, 2007, comments may be submitted electronically on the e-Gov Web site at http://www.regulations.gov or on the DOT electronic docket site, http://dms.dot.gov. To submit comments on the DOT electronic docket, click “Comment/Submissions,” click “Continue,” fill in the requested information, click “Continue,” enter your comment, then click “Submit.” Beginning on September 27, 2007, electronic comment submissions may only be made on the E-Gov Web site at http://www.regulations.gov.

• Fax: 1-202-493-2251.

• Mail: Docket Management System: U.S. Department of Transportation, 1200 New Jersey Avenue, SE., Room W12-140, Washington, DC 20590.

• Hand Delivery: DOT Docket Management System; 1200 New Jersey Avenue, SE., West Building Ground Floor, Room W12-140, Washington, DC between 9 a.m. and 5 p.m., Monday through Friday, except Federal holidays.

Instructions: Identify the docket number, PHMSA-1998-4957, at the beginning of your comments. If you mail your comments, send two copies. To receive confirmation that PHMSA received your comments, include a self-addressed stamped postcard. Through September 27, 2007, internet users may access all comments received by DOT at http://dms.dot.gov by performing a simple search for the docket number. Beginning September 30, 2007, internet users may access all comments received by DOT at http://www.regulations.gov. (Please note that comments may not be accessible on either Web site on September 28-29, 2007, during system migration). All comments are posted electronically without changes or edits, including any personal information provided.

Privacy Act—Anyone can search the electronic form of all comments received in response to any of our dockets by the name of the individual submitting the comment (or signing the comment, if submitted on behalf of an association, business, labor union, etc.). DOT's complete Privacy Act Statement was published in the Federal Register on April 11, 2000 (65 FR 19477), and is on the Web at http://www.dot.gov/privacy.html.

FOR FURTHER INFORMATION CONTACT: Roger Little at (202) 366-4569, or by e-mail at roger.little@dot.gov.

SUPPLEMENTARY INFORMATION: This notice concerns Periodic Underwater Inspections, an existing information collection in 49 CFR 192.612 and 195.413 of the pipeline safety regulations. PHMSA requires each operator of a natural gas or hazardous liquid pipeline in the Gulf of Mexico and its inlets to periodically inspect its pipelines in waters less than 15 feet (4.6 meters) deep as measured from mean low water that are at risk of being an exposed underwater pipeline or a hazard to navigation. If an operator discovers that its pipeline is an exposed underwater pipeline or poses a hazard to navigation, the operator must promptly report the location and, if available, the geographic coordinates of that pipeline to the National Response Center.

PHMSA is now requesting that OMB grant a three-year term of approval for renewal of this information collection. Pursuant to 44 U.S.C. 3506(c)(2)(A) of the PRA, PHMSA invites comments on whether the renewal is necessary for the proper performance of the functions of DOT. As used in this notice, the term “information collection” includes all work related to preparing and disseminating information related to this information collection requirement including completing paperwork, gathering information, and conducting telephone calls. Comments may include (1) whether the information will have practical utility; (2) the accuracy of DOT's estimate of the burden of the proposed information collection; (3) ways to enhance the quality, utility, and clarity of the information collection; and (4) ways to minimize the burden of the information collection on respondents, including the use of automated collection techniques or other forms of information technology.

Type of Information Collection Request: Renewal of existing collection.

Title of Information Collection: Pipeline Safety: Periodic Underwater Inspections.

Respondents: 82.

Estimated Total Annual Burden on Respondents: 1,350 hours.

Estimated Cost: $6,475.

Issued in Washington, DC on September 4, 2007.
Florence L. Hamn,
Director of Regulations, Office of Pipeline Safety.

[FR Doc. E7-17896 Filed 9-10-07; 8:45 am]

BILLING CODE 4910-60-P